DEPARTMENT OF HOUSING AND URBAN DEVELOPMENT

[Docket No. FR-5477-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave., SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1801 Pennsylvania Ave., NW., 4th Floor, Washington, DC 20006: (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: March 3, 2011.
Mark R. Johnston,
Deputy Assistant Secretary for Special Needs.

TITLE V, FEDERAL SURPLUS PROPERTY PROGRAM FEDERAL REGISTER REPORT FOR 03/11/2011

SUITABLE/AVAILABLE PROPERTIES

BUILDING

ILLINOIS

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified most current use: unknown.

WASHINGTON

Bureau of Reclamation

4976 Rd.

Soap Lake WA

Landholding Agency: Interior

Property Number: 61201110002

Status: Unutilized

Directions: 2 Bldgs. at the same location

Comments: Off-site removal only, sq. ft. varies; 772-924 sq. ft., current use varies: residence and storage.

LAND

MISSOURI

FAA

North Congress Ave & 110th St.

Kansas City MO 64153

Landholding Agency: GSA

Property Number: 54201110005

Status: Surplus

GSA Number: 7-U-MO-0688

Comments: Correction from 02/25/2011 Federal Register: .23 acres, legal constraint: utility easement only, current use: vacant land.

UNSUITABLE PROPERTIES

BUILDING

ARKANSAS

3 Bldgs.

Buffalo Nat'l River

Yellville AR

Landholding Agency: Interior

Property Number: 61201110003

Status: Excess

Directions: Tracts #s: 25-101 (Armer House), 41-101 (Main House), and 41-101A (Guest House)

Reasons: Extensive deterioration.

CALIFORNIA

Marine Corp Mnt. Trng. Ctr.

P-600

Bridgeport CA

Landholding Agency: Navy

Property Number: 77201110005

Status: Unutilized

Reasons: Extensive deterioration.

Bldg. 91084

NAS

China Lake CA 93555

Landholding Agency: Navy

Property Number: 77201110007

Status: Excess

Reasons: Extensive deterioration, Within 2000 ft. of flammable or explosive material.

Bldg. 25011

Naval Air Weapons Station

China Lake CA

Landholding Agency: Navy

Property Number: 77201110008

Status: Excess

Reasons: Secured Area, Extensive deterioration.

FLORIDA

Bldg. 319

NAS

Jacksonville FL

Landholding Agency: Navy

Property Number: 77201110006

Status: Unutilized

Reasons: Extensive deterioration, Within airport runway clear zone, Secured Area.

IDAHO

4 Bldgs.

Idaho Nat'l Lab

Idaho Falls ID 83415

Landholding Agency: Energy

Property Number: 41201110002

Status: Unutilized

Directions: 629, 631, 669, 673

Reasons: Extensive deterioration, Secured Area.

ILLINOIS

Bldg. 531

2131 Luce Blvd.

Great Lakes IL 60008

Landholding Agency: Navy

Property Number: 77201110009

Status: Unutilized

Reasons: Secured Area.

MARYLAND

6 Bldgs.

Naval Support Facility

Indian Head MD

Landholding Agency: Navy

Property Number: 77201110010

Status: Underutilized

Directions: 157, 178, 223, 448, 474, 590

Reasons: Extensive deterioration.

MASSACHUSETTS

Former Industrial Plant

180 Hartwell Rd.

Bedford MA

Landholding Agency: GSA

Property Number: 54201110008

Status: Excess

GSA Number: MA-0840-AB

Directions: Lab, Radar Test Bldg., Warehouse

Reasons: Within airport runway clear zone, Extensive deterioration.

Former Aviation Hanger

Hartwell Road

Bedford MA

Landholding Agency: GSA

Property Number: 54201110010

Status: Excess

GSA Number: MA-0804-AC

Reasons: Within airport runway clear zone, Extensive deterioration, Secured Area.

NEW YORK

2 Bldgs.

Fan House and Reactor Stack

Upon NY

Landholding Agency: Energy

Property Number: 41201110001

Status: Excess

Reasons: Secured Area, Within 2000 ft. of flammable or explosive material.

OHIO

Bldgs. 500 and 501

Glenn Research Ctr.

Cleveland OH

Landholding Agency: GSA

Property Number: 54201110009

Status: Excess

GSA Number: 1-Z-OH-0598

Reasons: Within 2000 ft. of flammable or explosive material, Secured Area.

TEXAS

Bldg. 111

AFB

Goodfellow TX 76908

Landholding Agency: Air Force

Property Number: 18201110012

Status: Excess

Reasons: Secured Area.

USCG

7034 South 1st Ave.

Sabine Pass TX 77655

Landholding Agency: Coast Guard

Property Number: 88201110004

Status: Unutilized

Directions: 3 Bldgs.—Command, Multipurpose, and OIC Qtrs.

Reasons: Extensive deterioration.

USCG

1 Ferry Rd.

Galveston TX 77553

Landholding Agency: Coast Guard

Property Number: 88201110005

Status: Unutilized

Directions: 8 Bldgs.—Admin., Dental, Med. Modular, Blackthorn, Exch. Modular, Tricare Modular, Berthing Modular, and Galveston Modular

Reasons: Extensive deterioration.

USCG

9640 Clinton Dr.

Houston TX 77029

Landholding Agency: Coast Guard

Property Number: 88201110006

Status: Unutilized

Directions: 8 Bldgs.—Command, Gallery, Prevention, Exch, R21 Modular, Boathouse, Berthing, Management

Reasons: Extensive deterioration.

LAND

VIRGINIA

Ft. Myer Military Reservation

4th St. and State Rte. 27

Arlington VA

Landholding Agency: GSA

Property Number: 54201110011

Status: Excess

GSA Number: VA-1103-AA

Reasons: Other—Property is landlocked by adjacent landowner and State Rte. 27.

Naval Support Facility

Dahlgren VA

Landholding Agency: Navy

Property Number: 77201110011

Status: Underutilized

Reasons: Floodway, Secured Area.

[FR Doc. 2011-5268 Filed 3-10-11; 8:45 am]

BILLING CODE 4210-67-P